DEPARTMENT OF ENERGY

Federal Energy Regulatory Commission

Combined Notice of Filings #1

Take notice that the Commission received the following electric corporate filings:

Docket Numbers: EC13-3-000.

Applicants: LDH Rensselaer LLC, Louis Dreyfus Energy Services L.P.

Description: Joint Application for Disposition of Jurisdictional Facilities and Related Requests of LDH Rensselaer LLC and Louis Dreyfus Energy Services, L.P.

Filed Date: 10/3/12.

Accession Number: 20121003-5151.

Comments Due: 5 p.m. ET 10/24/12.

Take notice that the Commission received the following exempt wholesale generator filings:

Docket Numbers: EG13-1-000.

Applicants: Big Blue Wind Farm, LLC.

Description: Self-Certification of EWG Status of Big Blue Wind Farm, LLC.

Filed Date: 10/3/12.

Accession Number: 20121003-5164.

Comments Due: 5 p.m. ET 10/24/12.

Take notice that the Commission received the following electric rate filings:

Docket Numbers: ER11-4318-002.

Applicants: San Diego Gas & Electric Company.

Description: San Diego Gas & Electric Company submits Compliance Filing pertaining to their Formula 3 Cycle 5 Informational Filing.

Filed Date: 10/2/12.

Accession Number: 20121003-0203.

Comments Due: 5 p.m. ET 10/23/12.

Docket Numbers: ER12-2448-001.

Applicants: Chisholm View Wind Project, LLC.

Description: Chisholm View Wind Project, LLC submits tariff filing per 35.17(b): Chisholm View Amended MBR to be effective 9/15/2012.

Filed Date: 10/3/12.

Accession Number: 20121003-5118.

Comments Due: 5 p.m. ET 10/24/12.

Docket Numbers: ER12-2454-001.

Applicants: San Diego Gas & Electric Company.

Description: San Diego Gas & Electric Company submits Cycle 6 Supplemental Filing.

Filed Date: 10/2/12.

Accession Number: 20121003-0200.

Comments Due: 5 p.m. ET 10/23/12.

Docket Numbers: ER13-11-000.

Applicants: Sierra Pacific Power Company.

Description: Rate Schedule No. 55—Amended and Restated PPA—CalPeco to be effective 12/1/2012.

Filed Date: 10/2/12.

Accession Number: 20121002-5145.

Comments Due: 5 p.m. ET 10/23/12.

Docket Numbers: ER13-12-000.

Applicants: Midwest Independent Transmission System Operator, Inc.

Description: 10-2-12 ATCLLC Attachment MM to be effective 12/1/2012.

Filed Date: 10/2/12.

Accession Number: 20121002-5165.

Comments Due: 5 p.m. ET 10/23/12.

Docket Numbers: ER13-13-000.

Applicants: NV Energy, Inc.

Description: Service Agreement No. 11-00052 Amended and Restated LGIA—Patua Project LLC to be effective 9/11/2012.

Filed Date: 10/2/12.

Accession Number: 20121002-5170.

Comments Due: 5 p.m. ET 10/23/12.

Docket Numbers: ER13-14-000.

Applicants: Midwest Independent Transmission System Operator, Inc.

Description: SA 2254 H075 Cancellation to be effective 8/29/2012.

Filed Date: 10/3/12.

Accession Number: 20121003-5030.

Comments Due: 5 p.m. ET 10/24/12.

Docket Numbers: ER13-15-000.

Applicants: West Oaks Energy, LLC.

Description: West Oaks Energy, LLC submits tariff filing per 35.15: Notice of Cancellation to be effective 10/4/2012.

Filed Date: 10/3/12.

Accession Number: 20121003-5071.

Comments Due: 5 p.m. ET 10/24/12.

Docket Numbers: ER13-16-000.

Applicants: Arizona Public Service Company.

Description: Arizona Public Service Company submits tariff filing per 35.15: Cancellation of APS Rate Schedule No. 255 to be effective 12/3/2012.

Filed Date: 10/3/12.

Accession Number: 20121003-5120.

Comments Due: 5 p.m. ET 10/24/12.

Docket Numbers: ER13-17-000.

Applicants: Niagara Wind Power, LLC.

Description: Niagara Wind Power, LLC submits tariff filing per 35.12: Application for Market-Based Rate Authorization and Related Waivers and Approval to be effective 10/3/2012.

Filed Date: 10/3/12.

Accession Number: 20121003-5124.

Comments Due: 5 p.m. ET 10/24/12.

Docket Numbers: ER13-18-000.

Applicants: Big Blue Wind Farm, LLC.

Description: Big Blue Wind Farm, LLC submits tariff filing per 35.12: Application for Market-Based Rate Authority and Baseline Tariff to be effective 10/4/2012.

Filed Date: 10/3/12.

Accession Number: 20121003-5127.

Comments Due: 5 p.m. ET 10/24/12.

Docket Numbers: ER13-19-000.

Applicants: Tampa Electric Company.

Description: Tampa Electric Company submits tariff filing per 35.15: Cancellation of First Revised Service Agreement No. 6—St. Cloud to be effective 12/31/2012.

Filed Date: 10/3/12.

Accession Number: 20121003-5129.

Comments Due: 5 p.m. ET 10/24/12.

Docket Numbers: ER13-21-000.

Applicants: National Grid Generation LLC.

Description: National Grid Generation LLC submits Pension and Other Post Employment Benefits Costs for the year ending December 31, 2012.

Filed Date: 10/3/12.

Accession Number: 20121003-5153.

Comments Due: 5 p.m. ET 10/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2012.
Nathaniel J. Davis, Sr.,
Deputy Secretary.

[FR Doc. 2012-25264 Filed 10-12-12; 8:45 am]

BILLING CODE 6717-01-P